DEPARTMENT OF HOUSING AND URBAN DEVELOPMENT

[Docket No. FR-4950-C-20B]

Notice of HUD's Fiscal Year (FY) 2005 Notice of Funding Availability Policy Requirements and General Section to SuperNOFA for HUD's Discretionary Grant Programs; Section 811 Supportive Housing for Persons With Disabilities Program NOFA; Competition Reopening Announcement

AGENCY: Office of the Assistant Secretary of Housing—Federal Housing Commissioner, HUD.

ACTION: Super Notice of Funding Availability (SuperNOFA) for HUD Discretionary Grant Programs; Section 811 Supportive Housing for Persons with Disabilities Program NOFA; competition reopening announcement.

SUMMARY: On March 21, 2005, HUD published its Fiscal Year (FY) 2005, Notice of Funding Availability (NOFA) Policy Requirements and General Section to the SuperNOFA for HUD's Discretionary Grant Programs. The Section 811 Supportive Housing for Persons with Disabilities Program NOFA competition, which was included in the SuperNOFA, closed on June 10, 2005. This document announces the reopening of the Section 811 Supportive Housing for Persons with Disabilities Program NOFA competition.

DATES: The new application submission date for the Section 811 Supportive Housing for Persons with Disabilities Program NOFA competition is September 6, 2005.

FOR FURTHER INFORMATION CONTACT: Frank Tolliver, Project Manager, Department of Housing and Urban Development, 451 Seventh Street, SW., Room 6142, Washington, DC 20410-7000; telephone 202-708-3000 (this is not a toll-free number). Persons with speech or hearing impairments may access this number via TTY by calling the toll-free Federal Information Relay Service at 800-877-8339.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The Section 811 Supportive Housing for Persons with Disabilities Program, which was included in the SuperNOFA, made approximately $95.8 million available in HUD assistance. According to the SuperNOFA, the application submission date for the Section 811 Supportive Housing for Persons with Disabilities Program NOFA was originally May 24, 2005, and this date was extended to June 10, 2005, by technical corrections published on May 10, 2005 (70 FR 24609) and June 1, 2005 (70 FR 31488). On May 11, 2005 (70 FR 24835), HUD published additional guidance to the General Section, that included a link to Frequently Asked Questions, located at http://www.grants.gov/ForApplicants#. Frequently asked questions can also be found on the HUD Web site at http://www.hud.gov/offices/adm/grants/egrants/grantsgovfaqs.pdf.

HUD understands that many eligible applicants may have had difficulty submitting their applications. Therefore, in order to give all NOFA applicants sufficient time to submit completed applications, and to ensure their Grants.gov registration is complete, this notice published in today's Federal Register reopens the Section 811 Supportive Housing for Persons with Disabilities Program NOFA competition. The new application submission date for the Section 811 Supportive Housing for Persons with Disabilities Program NOFA competition is September 6, 2005.

Applicability of SuperNOFA General Section and Section 811 Supportive Housing for Persons With Disabilities Program NOFA Requirements to Reopened Competition

Please note that the Section 811 Supportive Housing for Persons with Disabilities Program NOFA competition description, application submission information, and application review information were published in HUD's FY2005 SuperNOFA on March 21, 2005 (70 FR 13575). All requirements listed in the SuperNOFA General Section and in the Section 811 Supportive Housing for Persons with Disabilities Program NOFA, including the technical corrections to the Section 811 NOFA published in the Federal Register on May 10, 2005 (70 FR 24609) and June 1, 2005 (70 FR 31488), are applicable to this reopened competition except for those requirements explicitly changed by this notice (such as the application submission date, the requirement for electronic submission, and the date requirement associated with certain exhibits).

Submission Instructions

If you have already submitted an application electronically through Grants.gov and received a confirmation of successful receipt from Grants.gov, you do not need to resubmit another application. If you submitted a paper application, however, without first obtaining a waiver from the electronic submission requirement, you must resubmit your applications electronically or by paper submission. If an applicant decides to resubmit an application, the applicant must download a new application package and submit a new application. HUD will not accept partial amendments to applications that were previously submitted.

Applicants that have already submitted an application do not need to resubmit another application. However, if an applicant chooses to make any changes to an application that has already been submitted, it must download a new application from Grants.gov, complete the application, and resubmit by the new deadline date. For the purpose of rating and ranking, HUD will review the most recent application and disregard any previously submitted electronic application.

Applicants are encouraged to complete their registration and submit their electronic applications through Grants.gov as described in the SuperNOFA. In addition, for this FY2005 reopened funding opportunity, an applicant may submit a paper application without requesting a waiver from this requirement. HUD does not intend to accept paper applications in the future without a waiver.

Applicants that choose to submit a paper application must submit an original and four copies by mail or permitted delivery service to the appropriate HUD Multifamily (MF) Hub office identified in Appendix A to the Section 811 Supportive Housing for Persons with Disabilities Program NOFA, published March 21, 2005 (70 FR 13575), as amended by the technical corrections to the Section 811 Supportive Housing for Persons with Disabilities NOFA that published on May 10, 2005 (70 FR 24609), and June 1, 2005 (70 FR 31488), Attention: Section 811 Supportive Housing for Persons with Disabilities.

As described in section IV.F.5.b of the General Section, applicants submitting a paper application must use the United States Postal Service (USPS) to submit their application to HUD. Applicants must take their application to a post office to get a receipt of mailing that provides the date and time the package was submitted to the USPS. USPS rules now require that large packages must be brought to a postal facility for mailing. In many areas, the USPS has made a practice of returning to the sender, large packages that have been dropped in a mail collection box. Paper copy applications submitted to the USPS by the submission date and time and received by HUD no later than 15 days after the established submission date will receive funding consideration. If the USPS does not have a receipt with a digital time stamp, HUD will accept a receipt showing USPS Form 3817, Certificate of Mailing with a dated postmark. The proof of submission receipt provided by the Postal Service must show receipt no later than the application submission deadline. Applicants whose applications are determined to be late, who cannot furnish HUD with a receipt from the USPS that verifies the package was submitted to the USPS prior to the submission due date and time will not receive funding consideration. Applicants may use any type of mail service provided by the USPS to have their application package delivered to HUD in time to meet the submission requirements. HUD will not accept hand delivery of applications.

Additional Information

As indicated in the Section 811 Supportive Housing for Persons with Disabilities Program NOFA, published March 21, 2005 (70 FR 13575), all applicants must submit a Phase I Environmental Site Assessment (ESA), prepared in accordance with the ASTM Standards E 15270-00, as amended, completed or updated no earlier than six months prior to the application deadline date, in order for the application to be considered as an application with site control. The technical corrections to the Section 811 NOFA, published on May 10, 2005 (70 FR 24609) and June 1, 2005 (70 FR 31488), clarified that as a result of the previous extension of the application deadline, a Phase I ESA that is dated November 24, 2004, or later, will meet the requirement for submitting a Phase I ESA. Please note that a Phase I ESA that is dated November 24, 2004, or later, also will meet the requirement for submitting a Phase I ESA for those applications submitted in response to the reopened competition.

For those applicants who choose to submit an application in response to the reopened Section 811 NOFA, HUD is extending the date on which to submit a Phase II Environmental Site Assessment (ESA) and a plan for clean-up of the site, if required, based on the findings of the Phase I ESA. As described in the Section 811 Supportive Housing for Persons with Disabilities Program NOFA, published in March 21, 2005 (70 FR 13575), if the Phase I ESA indicates the possible presence of contamination and/or hazards, you, the applicant, must decide whether to continue with this site or choose another site. Should you choose another site, the same Phase I ESA process identified in the Section 811 NOFA, published on March 21, 2005 (70 FR 13575), as amended by technical corrections to the Section 811 NOFA, published on May 10, 2005 (70 FR 24609) and June 1, 2005 (70 FR 31488), must be followed for the new site. However, if you choose to continue with the original site on which the Phase I ESA indicated contamination or hazards, you must undertake a detailed Phase II ESA by an appropriate professional. In order for your application to be considered for review under this reopened FY 2005 Section 811 NOFA, the Phase II must be received by the local HUD office on or before October 4, 2005. Additionally, if the Phase II ESA reveals site contamination, the extent of the contamination and a plan for clean-up of the site must be submitted to the local HUD office. The plan for clean-up must include a contract for remediation of the problem(s) and an approval letter from the applicable federal, state, and/or local agency with jurisdiction over the site. In order for your application to be considered for review under this reopened FY 2005 Section 811 NOFA, this information must be received by the local HUD office on or before October 4, 2005. If the above information is not received by the local HUD office by that date, the application will be rejected.

As stated in the Section 811 Supportive Housing for Persons with Disabilities Program NOFA, published on March 21, 2005 (70 FR 13575), acceptable evidence of site control includes an option to purchase or for a long-term leasehold, which must remain in effect for six months from the date on which the applications are due, must state a firm price binding on the seller, and be renewable at the end of the six-month period. The only condition on which the option may be terminated is if you, the applicant, are not awarded a fund reservation. As a result of the previous extension of the application deadline, the technical corrections to the Section 811 NOFA, published on May 10, 2005 (70 FR 24609) and June 1, 2005 (70 FR 31488), amended this requirement to the extent necessary to permit HUD to accept an option to purchase or a long-term leasehold that remained in effect through November 30, 2005, or later as acceptable evidence of site control. However, in view of the timing of this reopened Section 811 NOFA and because HUD does not anticipate announcing the Section 811 selected applications until the middle of December, 2005, if your option expires prior to December 31, 2005, in order to ensure that you have an acceptable application, you should execute the extension provision in your option or leasehold agreement, whichever applies. This requirement applies to all applicants resubmitting applications that were previously submitted in response to the FY 2005 NOFA or applicants submitting new applications.

Dated: July 29, 2005.
Frank L. Davis,
General Deputy Assistant Secretary for Housing-Federal Housing Commissioner.

[FR Doc. 05-15474 Filed 8-4-05; 8:45 am]

BILLING CODE 4210-27-P